DEPARTMENT OF THE INTERIOR

National Park Service

National Register of Historic Places; Notification of Pending Nominations and Related Actions

Nominations for the following properties being considered for listing or related actions in the National Register were received by the National Park Service before May 21, 2005. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW, 8th floor, Washington DC 20005; or by fax, 202-371-6447. Written or faxed comments should be submitted by June 22, 2005.

John W. Roberts,
Acting Chief, National Register/National Historic Landmarks Program.

Connecticut

Hartford County

Moore, Rosswell, II, House, (Colonial Houses of Southington TR) 1166 Andrews St., Southington, 05000629

Maryland

Anne Arundel County

Marley Neck Rosenwald School, (Rosenwald Schools of Anne Arundel County, Maryland MPS) 7780 Solley Rd., Glen Burnie, 05000630

Missouri

Jackson County

Old Town Historic District (Boundary Increase), 119, 207 and 213 Walnut St., Kansas City, 05000632

St. Louis Independent City, Wolfner, Henry L., Memorial Library for the Blind, 3842-44 Olive St., St. Louis (Independent City), 05000631

New Mexico

Santa Fe County

Route 66 and National Old Trails Road Historic District at La Bajada, (Route 66 through New Mexico MPS) Appox. 0.5 mi. NE of N terminus of NM 16, La Bajada Village, 05000633

New York

Greene County

Platte Clove Post Office, Old, 2340 Platte Clove Rd., Elka Park, 05000637

Orange County

Sawyer Farmhouse, 178 Maple Ave., Goshen, 05000636

Wisner, George T., House, 145 South St., Goshen, 05000634

Orleans County

Blood, Jackson, Cobblestone House, (Cobblestone Architecture of New York State MPS) 142 S. Main St., Lyndonville, 05000635

Oregon

Benton County

Watson—Price Farmstead, 23380 Hoskins Rd., Philomath, 05000638

Clackamas County

Willamette River (Oregon City) Bridge (No. 357), Spanning the Williamette River on Oswego Hwy 3(Ore-43) bet. Oregon City and West Linn, Oregon City, 05000639

Josephine County

Rogue Theatre, 143 SE “H” St., Grants Pass, 05000640

Multnomah County

Auto Freight Transport Building of Oregon and Washington, 1001 SE Water Ave., Portland, 05000641

Virginia

Fredericksburg Independent City, Carl's, 2200 Princess Anne St., Fredericksburg (Independent City), 05000642

Wisconsin

Portage County

Nelson Hall, 1209 Fremont St., Stevens Point, 05000643

To assist in the preservation of the following historic property the comment period has been shortened to three (3) days:

Georgia

Pickens County

Georgia Marble Company and Tate Historic District, Centered on GA 53 bet GA 5 and Long Swamp Creek, Tate, 05000644

[FR Doc. 05-11204 Filed 6-6-05; 8:45 am]

BILLING CODE 4312-51-P